DEPARTMENT OF AGRICULTURE

Forest Service

DEPARTMENT OF THE INTERIOR

Bureau of Land Management

[20X 1109AF LLUT930000 L16100000.DR0000.LXSSJ0650000]

Notice of Availability of the Records of Decision and Approved Monument Management Plans for the Bears Ears National Monument Indian Creek and Shash Jáa Units, Utah

AGENCY: Bureau of Land Management, Interior; and Forest Service, USDA.

ACTION: ACTION:

Notice of availability.

SUMMARY: The Bureau of Land Management (BLM) Canyon Country District Office and United States Forest Service (USFS) Manti-La Sal National Forest announce the availability of the Records of Decision (RODs) for the Approved Monument Management Plans (MMPs) for the Bears Ears National Monument (BENM) Indian Creek and Shash Jáa Units.

DATES: The Acting BLM State Director signed the ROD on February 6, 2020, which constitutes the final decision of the BLM and made the Approved MMPs take effect immediately. The Forest Supervisor for the USFS Manti-La Sal National Forest also signed the ROD for an amendment to the Manti-La Sal National Forest Land and Resource Management Plan (Forest Plan) on February 6, 2020. The Manti-La Sal's Forest Plan amendment for the Monument Management Plan for the Bears Ears National Monument, Shash Jáa Unit takes effect on March 23, 2020.

ADDRESSES: The RODs are available on the BLM ePlanning project website at https://go.usa.gov/xVjXQ. Click the “Documents and Report” link on the left side of the screen to find the electronic versions of these materials. Hard copies of the BLM ROD are available for public inspection at the Canyon Country District Office, 82 East Dogwood, Moab, Utah 84532, and Monticello Field Office, 365 North Main, Monticello, Utah 84535. Hard copies of the USFS ROD are available for public inspection at the Manti-La Sal National Forest, 599 West Price River Drive, Price, Utah 84501 and Monticello Ranger District, 496 East Central, P.O. Box 820, Monticello, Utah 84535.

FOR FURTHER INFORMATION CONTACT: BLM: Jake Palma, Monument Manager, BLM Monticello Field Office, 365 North Main, P.O. Box 7, Monticello, Utah 84535; by telephone, (435) 587-1500; or by email, jepalma@blm.gov. USFS: Kyle Beagley, Forest Planner, Supervisors Office, 599 West Price River Drive, Price, Utah 84501; by telephone, (435) 636-3504; or by email, kyle.beagley@usda.gov. Persons who use a telecommunications device for the deaf may call the Federal Relay Service (FRS) at 1-800-877-8339 to contact the above individuals during normal business hours. The FRS is available 24 hours a day, 7 days a week, to leave a message or question. You will receive a reply during normal business hours.

SUPPLEMENTARY INFORMATION: The BLM's and USFS's Approved MMPs for the BENM Indian Creek (BLM) and Shash Jáa Units (BLM and USFS) identify goals, objectives, and management actions necessary for the proper care and management of the Monument objects and values on BLM- and USFS-administered lands identified in Proclamation 9558, as modified by Proclamation 9681. The BLM manages all 71,896 acres in the Indian Creek Unit, and 97,393 acres in the Shash Jáa Unit. The BLM's ROD/Approved MMPs amend the existing BLM Monticello Resource Management Plan (RMP) to remove the BENM from the Monticello RMP Decision Area and would replace the management from the Monticello RMP for the BLM-administered lands within the Monument. The USFS manages 32,587 acres in the Shash Jáa Unit and has issued a ROD amending the Forest Plan for the purpose of ensuring proper care and management of the “object[s] of antiquity” and “objects of historic or scientific interest” of the National Forest System lands in the Shash Jáa unit per the Approved MMPs.

The BLM, as the lead agency, and USFS, as a cooperating agency, developed the Approved MMPs in coordination with cooperating agencies, and using input from the public, stakeholder groups, State and local government entities, American Indian Tribes, and the BENM Advisory Committee. These plans provide for the proper care and management of the Monument's objects and values while allowing for multiple uses, including recreational uses. The BLM and USFS will continue to manage lands within the Monument pursuant to applicable legal authorities.

The BLM and USFS prepared an Environmental Impact Statement (EIS) in accordance with the National Environmental Policy Act to analyze the direct, indirect, and cumulative environmental impacts associated with the proposed action and the alternatives. Additionally, the agencies consulted with the United States Fish and Wildlife Service (USFWS) to meet the requirements in Section 7 of the Endangered Species Act (ESA). A Biological Opinion issued by the USFWS on September 23, 2019, determined that the Approved MMPs are not likely to jeopardize the continued existence of the species consulted on and are not likely to destroy or adversely modify designated critical habitat. The agencies also consulted with the Utah State Historic Preservation Office (SHPO) and consulting parties as part of the Section 106 review process under the National Historic Preservation Act (NHPA), which resulted in a finding of no adverse effect to historic properties. The SHPO concurred with this finding, and the Advisory Council on Historic Preservation subsequently determined that the BLM's no adverse effect finding was reasonable and adequately supported.

The formal public scoping process for the MMPs and EIS began on January 16, 2018, with the publication of a Notice of Intent in the Federal Register (83 FR 2181). On April 10, 2018, the USFS published a notice in the Federal Register (83 FR 15354) to identify potentially applicable planning rule provisions for the Forest Plan amendment and inform the public of the USFS's intent to adopt the BLM's EIS. The Notice of Availability (NOA) for the Draft MMPs/EIS was published on August 17, 2018 (83 FR 41111), which initiated a 90-day public comment period.

On July 26, 2019, the BLM published the NOA for the Proposed MMPs/Final EIS (84 FR 36118), initiating a 30-day protest period and a concurrent 60-day Governor's Consistency Review. In accordance with 36 CFR 219.59, the USFS waived its objections procedures and adopted the BLM's protest procedures. During the protest period for the Proposed MMPs, the BLM received 35,934 protest letters. All protests were resolved prior to the issuance of the RODs. For a full description of the issues raised during the protest period and how they were addressed, please refer to the BLM Protest Resolution Report, which is available online at https://www.blm.gov/programs/planning-and-nepa/public-participation/protest-resolution-reports. The Governor of Utah reviewed the Proposed MMPs/Final EIS to identify any inconsistencies with State or local plans, policies, or programs; the BLM and USFS addressed the Governor's input in the RODs/Approved MMPs. Finally, in compliance with the John D. Dingell, Jr. Conservation, Management, and Recreation Act of 2019, the NOA for the Proposed MMPs/Final EIS announced a 60-day public comment period regarding the proposed closure of recreational target shooting at campgrounds, developed recreation sites, rock writing, and structural cultural sites within the BENM. After the protest period, target shooting comment period, government-to-government consultation, Section 106 (NHPA) and Section 7 (ESA) consultation, and Governor's consistency review, the BLM and USFS made minor modifications to the management actions in the Approved MMPs to clarify management actions. All of the changes are described in the Modifications and Clarifications (Section 3.1.2) of the ROD.

(Authority: 36 CFR 219.13, 36 CFR 219.16, 36 CFR 219.17, 40 CFR 1506.6 40 CFR 1506.10 and 43 CFR 1610.2)

Anita Bilbao,
Acting BLM State Director.
Ryan Nehl,
Forest Supervisor.

[FR Doc. 2020-03375 Filed 2-19-20; 8:45 am]

BILLING CODE 4310-DQ-P